DEPARTMENT OF TRANSPORTATION

Federal Highway Administration

Environmental Impact Statement; Cobb and Cherokee Counties, GA

AGENCY: Federal Highway Administration (FHWA), DOT.

ACTION: Notice of intent.

SUMMARY: The FHWA is issuing this notice to advise the public that an Environmental Impact Statement (EIS) will be prepared for a proposed combined highway and Bus Rapid Transit (BRT) project on I-75 and I-575 in Cobb and Cherokee Counties, Georgia.

FOR FURTHER INFORMATION CONTACT: Mr. Walter Boyd, Urban Transportation Engineer, FHWA, 61 Forsyth Street, SW., Suite 17T100, Atlanta, Georgia 30303, telephone: (404) 562-3651; Mr. Tony Dittmeier, Transportation Specialist, Federal Transit Administration, 61 Forsyth Street, SW., Suite 17T50, Atlanta, Georgia 30303, telephone (404) 562-3512; Mr. Harvey Keepler, State Environmental/Location Engineer, Georgia Department of Transportation, 3993 Aviation Circle, Atlanta, Georgia 30336, telephone: (404) 699-4400; or Mr. Marvin Woodward, Director of Projects and Planning, Georgia Regional Transportation Authority, 245 Peachtree Center Avenue, NE., Suite 900, Atlanta, Georgia 30303, telephone: (404) 463-3099.

SUPPLEMENTARY INFORMATION: The FHWA, in cooperation with the Georgia Department of Transportation (GDOT), the Federal Transit Administration (FTA), and the Georgia Regional Transportation Authority (GRTA), will prepare an EIS on a proposal to extend High Occupancy Vehicle (HOV) lanes along Interstate 75 and 575 (I-75 and I-575). The HOV lanes would be extended on I-75 from Akers Mill Road to Wade Green Road. HOV lanes would also be constructed on I-575 from the I-75/I-575 Interchange to Sixes Road in Cherokee County. The proposed HOV lanes would accommodate the implementation of a Bus Rapid Transit (BRT) system with various transit stations along the I-75 corridor. Various design alternatives for both the HOV lanes and the BRT system will be studied.

In the May 15, 2003 Federal Register (volume 67, number 94), a notice of intent was issued by the FTA, in cooperation with the GRTA, to advise agencies and the public that an Alternatives Analysis (AA) / EIS was going to be prepared for a proposed transportation improvement in the metropolitan Atlanta region's northwest corridor. During the development of that AA by GRTA, it was determined that the appropriate course of action was to jointly develop a transportation improvement project with GDOT. A Locally Preferred Alternative (LPA) has been adopted by GDOT and GRTA and an EIS will be prepared based on that LPA.

Letters describing the proposed action and soliciting comments will be sent to appropriate Federal, State, and local agencies, and to private organizations and citizens who have previously expressed or are known to have interest in this proposal. A series of public meetings and a public hearing will be held. The draft EIS will be available for public and agencies review and comments prior to the public hearing. To ensure that the full range of issues related to this proposed project is addressed and all significant issues identified, formal scoping will be initiated. Additionally, comments and suggestions are invited from all interested parties. Comments or questions concerning this proposed action should be directed to the FHWA at the address provided above.

(Catalog of Federal Domestic Assistance Program Number 20.205, Highway Research, Planning and Construction. Georgia's approved clearinghouse review procedures apply to this program.)
Issued on: March 9, 2004.
Walter E. Boyd,
Urban Transportation Engineer, FHWA, Atlanta, Georgia.

[FR Doc. 04-5741 Filed 3-12-04; 8:45 am]

BILLING CODE 4910-22-M